DEPARTMENT OF THE INTERIOR

Fish and Wildlife Service

50 CFR Parts 13 and 22

[Docket No. FWS-R9-MB-2011-0054; FF09M21200-123-FXMB123209EAGL0L2]

RIN 1018-AX91

Eagle Permits; Changes in the Regulations Governing Eagle Permitting

AGENCY: Fish and Wildlife Service, Interior.

ACTION: Proposed rule; extension of comment period.

SUMMARY: We announce the extension of the public comment period for our April 13, 2012, proposed rule to revise the regulations for permits for nonpurposeful take of golden eagles (Aquila chrysaetos) and bald eagles (Haliaeetus leucocephalus) where the take is associated with, but not the purpose of, an activity. In that proposed rule, we propose to increase the maximum term for programmatic permits to 30 years and to increase permit application processing fees for such long-term permits. We are extending the public comment period to allow all interested parties an additional opportunity to comment on the proposed rule. Comments previously submitted need not be resubmitted, as we will fully consider them when preparing a final determination.

DATES: Electronic comments on the proposal published at 77 FR 22267, April 13, 2012, must be submitted via http://www.regulations.gov by 11:59 p.m. Eastern time on July 12, 2012. Comments submitted by mail must be postmarked no later than July 12, 2012.

ADDRESSES: You may submit comments by either of the following two methods. Please do not submit comments by both.

• Federal eRulemaking portal: http://www.regulations.gov. Follow the instructions for submitting comments on Docket No. FWS-R9-MB-2011-0054.

• U.S. mail or hand delivery: Public Comments Processing, Attention: FWS-R9-MB-2011-0054; Division of Policy and Directives Management; U.S. Fish and Wildlife Service; 4401 North Fairfax Drive, MS 2042-PDM; Arlington, VA 22203-1610.

We will not accept email or faxes. We will post all comments on http:/www.regulations.gov. This generally means that we will post any personal information that you provide. See the Public Comments section below for more information.

FOR FURTHER INFORMATION CONTACT: Chief, Division of Migratory Bird Management, at 703-358-1714.

SUPPLEMENTARY INFORMATION:

Background

On April 13, 2012, we proposed revisions to the regulations governing permits for take of golden eagles (Aquila chrysaetos) and bald eagles (Haliaeetus leucocephalus), where the take is associated with, but not the purpose of, an activity (see 77 FR 22267, April 13, 2012). We proposed to extend the maximum term for a programmatic permit from 5 to 30 years, if the permit incorporates conditions requiring implementation of additional measures to ensure the preservation of eagles, if needed. This change would facilitate the responsible development of renewable energy and other projects that will be in operation for many decades while being consistent with statutory mandates protecting eagles.

The proposed rule would amend the schedule of permit fees set forth at 50 CFR 13.11 to substantially increase the fees charged for processing programmatic permit applications for such long-term permits. The permit application processing fee is proposed to be $36,000. In addition, the regulations propose an “administration fee” based on the duration of the permits to recover our costs for monitoring and working with the permittees over the lives of the permits. The proposed administration fee ranges from $2,600 for permits with tenures of 5 years or less to $15,600 for 30-year permits. The regulations propose a reduced application processing fee of $5,000 for permit applications for small wind projects and other activities not expected to have significant effects on eagles.

The proposed rule also contains provisions that would allow permits to be transferred from one party to another and to clarify that programmatic permits issued under the Bald and Golden Eagle Protection Act (16 U.S.C. 668-668d) to Federal, State, tribal, or local governmental entities provide take authorization for persons acting under the jurisdiction of the permitted government agency under certain circumstances.

We are now extending the public comment period for the proposed rule to allow interested members of the public an additional opportunity to provide input. The comment period will close on July 12, 2012. If you have already submitted comments on the April 13, 2012, proposed rule, please do not resubmit them. We will fully consider all comments we receive when preparing a final determination on the proposed rule.

For more information about the proposed regulatory changes, please see the April 13, 2012, proposed rule, available on http://www.regulations.gov at Docket No. FWS-R9-MB-2011-0054 and on our Web site at: http://www.fws.gov/migratorybirds/BaldAndGoldenEagleManagement.htm.

Public Comments

You may submit your comments and supporting materials by one of the methods listed in ADDRESSES. We request that you submit comments by only one method. We will not consider comments sent by email or fax, or written comments sent to an address other than the one listed in ADDRESSES. If you submit a comment via http://www.regulations.gov, your entire comment—including any personal identifying information—will be posted on the Web site. If you submit a hardcopy comment that includes personal identifying information, you may request that we withhold this information from public review, but we cannot guarantee that we will be able to do so. We will post all hardcopy comments on http://www.regulations.gov.

Comments and materials we receive, as well as supporting documentation we used in preparing this proposed rule, will be available for public inspection at http://www.regulations.gov, or by appointment, during normal business hours, by contacting the person listed above under FOR FURTHER INFORMATION CONTACT.

Authority for Part 13: 16 U.S.C. 668a, 704, 712, 742j-l, 1374(g), 1382, 1538(d), 1539, 1540(f), 3374, 4901-4916; 18 U.S.C. 42; 19 U.S.C. 1202; 31 U.S.C. 9701.

Authority for Part 22: 16 U.S.C. 668-668d; 16 U.S.C. 703-712; 16 U.S.C. 1531-1544.

Dated: May 1, 2012.
Rachel Jacobson,
Acting Assistant Secretary for Fish and Wildlife and Parks.

[FR Doc. 2012-11111 Filed 5-8-12; 8:45 am]

BILLING CODE 4310-55-P